DEPARTMENT OF COMMERCE

International Trade Administration

[A-570-506, A-583-508]

Porcelain-on-Steel Cooking Ware from the People's Republic of China and Taiwan; Continuation of Antidumping Duty Orders

AGENCY: Import Administration, International Trade Administration, Department of Commerce.

SUMMARY: As a result of the determinations by the Department of Commerce (“the Department”) and the International Trade Commission (“ITC”) that revocation of the antidumping duty orders on porcelain-on-steel cooking ware from the People's Republic of China (“PRC”) and Taiwan would likely lead to continuation or recurrence of dumping and material injury to an industry in the United States, the Department is publishing this notice of continuation of this antidumping duty order.

EFFECTIVE DATE: November 22, 2005.

FOR FURTHER INFORMATION CONTACT: Maureen Flannery, AD/CVD Operations, Import Administration, International Trade Administration, U.S. Department of Commerce, 14th Street and Constitution Avenue, NW, Washington, DC, 20230; telephone: (202) 482-3020.

SUPPLEMENTARY INFORMATION:

Background

On March 1, 2005, the Department initiated sunset reviews of the antidumping duty orders on Porcelain-on-Steel Cooking Ware from the PRC and Taiwan pursuant to section 751(c) of the Tariff Act of 1930, as amended (“the Act”). See Initiation of Five-Year (“Sunset”) Reviews, 70 FR 9919 (March 1, 2005). As a result of its review, the Department found that revocation of the antidumping duty orders would likely lead to continuation or recurrence of dumping, and notified the ITC of the magnitude of margins likely to prevail were the orders to be revoked. See Porcelain-on-Steel Cooking Ware from the People's Republic of China and Taiwan, Five-Year (“Sunset”) Reviews of Antidumping Duty Orders; Final Results, 70 FR 58187 (October 5, 2005). On October 14, 2005, the ITC determined, pursuant to section 751(c) of the Act, that revocation of the antidumping duty orders on Porcelain-on-Steel Cooking Ware from the PRC and Taiwan would likely lead to continuation or recurrence of material injury to an industry in the United States within a reasonably foreseeable time. See Porcelain-on-Steel Cooking Ware From China and Taiwan; Top-of- the-Stove Stainless Steel Cooking Ware From Korea and Taiwan (Investigations Nos. 731-TA-298 and 299 (Second Review); Investigations Nos. 701-TA-267 and 268 and 731-TA-304 and 305 (Second Review)), 70 FR 67740 (November 8, 2005).

Scope of the Orders

PRC

The merchandise covered by this order is porcelain-on-steel cooking ware from the PRC, including tea kettles, which do not have self-contained electric heating elements. All of the foregoing are constructed of steel and are enameled or glazed with vitreous glasses. The merchandise is currently classifiable under the United States Harmonized Tariff Schedule (“USHTS”) item 7323.94.00. USHTS items numbers are provided for convenience and customs purposes. The written description of the scope remains dispositive.

In response to a request from CGS International, on January 30, 1991, the Department clarified that high quality, hand finished cookware, including the small basin, medium basin, large basin, small colander, large colander, 8” bowl, 6” bowl, mugs, ash tray, napkin rings, utensil holder and utensils, ladle, cream & sugar, and mixing bowls are properly considered kitchen ware and are, therefore, outside the scope of the order. Further, the Department clarified that CGS International's casserole, 12-cup coffee pot, 6-cup coffee pot, roasting pan, oval roaster, and butter warmer are within the scope of the order (see Notice of Scope Rulings, 56 FR 19833 (April 30, 1991)).

In response to a request from Texsport, on August 8, 1990, the Department determined that camping sets, with the exception of the cups and plates included in those sets, are within the scope of the order (see Notice of Scope Rulings, 55 FR 43020 (October 25, 1990)).

On March 8, 2000, Tristar Products' grill set with aluminum grill plate was found to be outside the scope of the order (see Notice of Scope Rulings, 65 FR 41957 (July 7, 2000)).

On October 29, 2003, Target Corporation's certain enamel-clad beverage holders and dispensers were found to be outside the scope of the order (see Notice of Scope Rulings, 70 FR 24533 (May 10, 2005)).

On January 4, 2005, Taybek International's Pro Popper professional popcorn popper was found to be within the scope of the order (see Notice of Scope Rulings, 70 FR 41374 (July 19, 2005)).

Taiwan

The merchandise covered by this order is porcelain-on-steel cooking ware from Taiwan that do not have self-contained electric heating elements. All of the foregoing are constructed of steel and are enameled or glazed with vitreous glasses. Kitchen ware and teakettles are not subject to this order. The merchandise is currently classifiable under the USHTS item number 7323.94.00. The USHTS subheading is provided for convenience and customs purposes. The written description of the scope remains dispositive.

On August 23, 1990, in response to a request from RSVP, BBQ grill baskets were found to be outside the scope of the order (see Notice of Scope Rulings, 55 FR 43020 (October 25, 1990)).

On September 3, 1992, in response to a request from Mr. Stove Ltd., stove top grills and drip pans were found to be outside the scope of the order (see Notice of Scope Rulings, 57 FR 57420 (December 4, 1992)).

On September 25, 1992, in response to a request from Metrokane Inc., the “Pasta Time” pasta cooker was found to be within the scope of the order (see Notice of Scope Rulings, 57 FR 57420 (December 4, 1992)).

On August 18, 1995, Blair Corporation's Blair cooking ware items #1101 (seven piece cookware set), #271911 (eight-quart stock pot), and #271921 (twelve-quart stock pot) were found to be outside the scope of the order (see Notice of Scope Rulings, 60 FR 54213 (October 20, 1995)).

On October 30, 1996, Cost Plus, Inc.'s 10 piece porcelain-on-steel fondue set was found to be within the scope of the order (see Notice of Scope Rulings, 62 FR 9176 (February 28, 1997)).

Determination

As a result of the determinations by the Department and the ITC that revocation of the antidumping duty orders would likely lead to continuation or recurrence of dumping and material injury to an industry in the United States, pursuant to section 751(d)(2) of the Act, the Department hereby orders the continuation of the antidumping duty orders on Porcelain-on-Steel Cooking Ware from the PRC and Taiwan. U.S. Customs and Border Protection will continue to collect antidumping duty cash deposits at the rates in effect at the time of entry for all imports of subject merchandise.

The effective date of continuation of these orders will be the date of publication in the Federal Register of this Notice of Continuation. Pursuant to section 751(c)(2) of the Act, the Department intends to initiate the next five-year review of these orders not later than October 2010.

These five-year (sunset) reviews and notice are in accordance with section 751(c) of the Act and published pursuant to section 777(i)(1) of the Act.

Dated: November 15, 2005.
Joseph A. Spetrini,
Acting Assistant Secretary for Import Administration.

[FR Doc. E5-6442 Filed 11-21-05; 8:45 am]

BILLING CODE 3510-DS-S